DEPARTMENT OF TRANSPORTATION

Federal Aviation Administration

Airport Improvement Program Grant Assurances; Proposed Modifications and Opportunity To Comment

AGENCY: Federal Aviation Administration (FAA), U.S. DOT.

ACTION: Notice of modification of Airport Improvement Program grant application requirements and of the opportunity to comment.

SUMMARY: The FAA proposes to modify the standard grant application requirements that are required of a sponsor of a nonprimary airport before receiving a grant under the Airport Improvement Program (AIP). The FAA is providing an opportunity for public comment on proposals to modify the grant application requirements.

Sponsors of nonprimary airports are now required to provide a variety of information when submitting an AIP grant application. This modification would require that a sponsor of a nonprimary airport submit a list of the aircraft (fixed wing and rotary wing) that are based on the airport.

DATES: Comments are invited. Comments must be submitted on or before October 8, 2008. Any necessary or appropriate revision to the application requirements resulting from the comments received will be adopted as of the date of a subsequent publication in the Federal Register.

ADDRESSES: Comments may be delivered or mailed to the FAA, Airports Financial Assistance Division, APP-500, Room 619, 800 Independence Avenue, SW., Washington, DC 20591.

FOR FURTHER INFORMATION CONTACT: Mr. Wayne Heibeck, Airports Planning and Programming Division, APP 2, Room 620, FAA, 800 Independence Avenue, SW., Washington, DC 20591, Telephone (202) 267-8775.

SUPPLEMENTARY INFORMATION: In order to be considered for AIP grant funds, a sponsor (the grant applicant) must meet certain requirements and provide certain information regarding the project for which grant funds are being sought. The Secretary must receive this information from a sponsor (applicant) seeking financial assistance for airport planning, airport development, noise compatibility planning or noise mitigation under Title 49, U.S.C., as amended. Decisions to award discretionary grants are made on the basis of a number of factors. Nonprimary airports that have not provided verifiable data regarding the number of aircraft that are based at the airport hinder FAA from determining whether a project at that airport is justified. Therefore, if a nonprimary airport has not provided the verifiable based aircraft information, FAA will consider the failure to provide the information as a factor when considering a request from that airport for discretionary funding.

Discussion of Modifications

FAA prescribes the information that must be contained in a grant application. For nonprimary airport grant applications, FAA has determined that accurate information on based aircraft is an important element of justification for many proposed AIP projects at nonprimary airports. In addition, based aircraft data supports the airport's importance in the biennial Report to Congress—the National Plan of Integrated Airport Systems (NPIAS) and in the Airport Master Record (the Form 5010). A based aircraft is an operational aircraft that is registered in the FAA Aircraft Registry that is at the airport the majority of the year. Registered aircraft are defined in Chapter 14 Code of Federal Regulations Part 47. An operational aircraft is an aircraft that is in a condition for safe operation.

FAA may require a sponsor for a nonprimary airport to include a list of the based aircraft at the airport, including the “N-number” for each aircraft when submitting a grant application or may require the sponsor to update the list of based aircraft submitted with the most recent Form 5010 inspection.

The FAA manages the AIP in accordance with statutory direction and agency policies and criteria. Decisions to award discretionary grants are made on the basis of a number of factors, including project evaluation under the National Priority System and the current operations and number of aircraft that are based at an airport. Nonprimary airports that have not provided verifiable data on the number of based aircraft at the airport deprive FAA of a tool for reviewing discretionary requests. Therefore, if a nonprimary airport has not provided a list of based aircraft at the airport, including “N-number”, FAA will consider the failure to provide the information as a factor when considering a request from the airport for discretionary funding.

Issued in Washington, DC on August 27, 2008.
Wayne Heibeck,
Deputy Director, Office of Airport Planning and Programming.

[FR Doc. E8-20459 Filed 9-5-08; 8:45 am]

BILLING CODE 4910-13-M